DEPARTMENT OF STATE

[Public Notice: 10003]

Notification of the Next Cafta-Dr Environmental Affairs Council Meeting

AGENCY: Department of State.

ACTION: Notice of the CAFTA-DR Environmental Affairs Council meeting and request for comments.

SUMMARY: The Department of State and the Office of the United States Trade Representative are providing notice that the parties to the Dominican Republic-Central America-United States Free Trade Agreement (CAFTA-DR) intend to hold the eleventh meeting of the Environmental Affairs Council (the Council) established under Chapter 17 (Environment) of that agreement in San José, Costa Rica, on June 21 and 22, 2017.

DATES: The public session of the Council will be held on June 22, 2017, from 10:00 a.m.-1:00 p.m. at the Costa Rica Marriott Hotel in San José, Costa Rica. We request comments and suggestions in writing no later than June 8, 2017.

ADDRESSES: Written comments or suggestions should be submitted to both:

(1) Neal Morris, U.S. Department of State, Bureau of Oceans and International Environmental and Scientific Affairs, Office of Environmental Quality and Transboundary Issues by email to MorrisND@state.gov with the subject line “CAFTA-DR EAC Meeting” or by fax to (202) 647-5947; and

(2) Laura Buffo, Director for Environment and Natural Resources, Office of the United States Trade Representative by email to Laura_Buffo@ustr.eop.gov with the subject line “CAFTA-DR EAC Meeting” or by fax to (202) 395-9517.

If you have access to the Internet you can view and comment on this notice by going to: http://www.regulations.gov/#!home and searching for docket number DOS-2017-0025.

FOR FURTHER INFORMATION CONTACT: Neal Morris, (202) 647-9312, or Laura Buffo, (202) 395-9424

SUPPLEMENTARY INFORMATION: Article 17.5 of the CAFTA-DR establishes an Environmental Affairs Council (the Council) and, unless the CAFTA-DR parties otherwise agree, requires it to meet annually to oversee the implementation of, and review progress under, Chapter 17. Article 17.5 further requires, unless the parties otherwise agree, that each meeting of the Council includes a session in which members of the Council have an opportunity to meet with the public to discuss matters relating to the implementation of Chapter 17.

On June 21, the Council will meet in a government-to-government session to (1) review any challenges parties are facing in meeting their environment chapter obligations, (2) highlight environmental achievements in the past year and share related lessons learned and best practices; (3) review ongoing work under the environmental cooperation program; and (4) hear a report from the CAFTA-DR Secretariat for Environmental Matters on the status of the public submissions process.

On June 22, the Council invites all interested persons to attend a public session about Chapter 17 implementation, beginning at 10:00 a.m. at the Costa Rica Marriott Hotel. At the session, the Council will welcome questions, input, and information about challenges and achievements in implementation of the Chapter and the related Environmental Cooperation Agreement (ECA). Environmental Cooperation Program implementers also will be on site to answer questions and provide more information about their particular projects and programs. If you would like to attend the public session, please notify Neal Morris and Laura Buffo at the email addresses listed under the heading ADDRESSES. Please include your full name and identify any organization or group you represent. The Department of State and Office of the United States Trade Representative also invite written comments or suggestions to be submitted before June 8, 2017, regarding topics to be discussed at the Council meeting. In preparing comments, we encourage submitters to refer to Chapter 17 of the CAFTA-DR and the CAFTA-DR Environmental Cooperation Agreement (documents available at http://www.state.gov/e/oes/eqt/trade/caftadr/index.htm and https://ustr.gov/issue-areas/environment/bilateral-and-regional-trade-agreements). Instructions on how to submit comments are under the heading ADDRESSES.

In preparing comments, we encourage submitters to refer to:

• Chapter 17 of the CAFTA-DR and

• The ECA

These documents are available at: http://www.state.gov/e/oes/eqt/trade/caftadr/index.htm and https://ustr.gov/issue-areas/environment/bilateral-and-regional-trade-agreements. Visit http://www.state.gov and the USTR Web site at www.ustr.gov for more information.

Dated: May 18, 2017.
Barton Putney,
Director, Office of Environmental Quality and Transboundary Issues, Department of State.

[FR Doc. 2017-10659 Filed 5-23-17; 8:45 am]

BILLING CODE 4710-09-P